DEPARTMENT OF HEALTH AND HUMAN SERVICES

Administration for Children and Families

Submission for OMB Review; Comment Request

Title: Medical Complaint Form, Contact Investigation Form: Non-TB Illness, and Contact Investigation Form: Active/Suspect TB.

OMB No.: 0970-NEW.

The Administration for Children and Families' Office of Refugee Resettlement (ORR) places unaccompanied minors in their custody in licensed care provider facilities until reunification with a qualified sponsor. Pursuant to Exhibit 1, part A.2 of the Flores Settlement Agreement (Jenny Lisette Flores, et al., v. Janet Reno, Attorney General of the United States, et al., Case No. CV 85-4544-RJK (C.D. Cal. 1996), care provider facilities, on behalf of ORR, shall arrange for appropriate routine medical and dental care, family planning services, and emergency healthcare services, including a complete medical examination within 48 hours of admission to ORR, screening for infectious diseases, appropriate immunizations in accordance with the U.S. Public Health Service (PHS), Center for Disease Control, administration of prescribed medication and special diets, and appropriate mental health interventions for each minor in care.

The Medical Complaint and Contact Investigation forms are to be used as worksheets for healthcare providers and health departments to compile information that would otherwise have been collected during a medical evaluation. Once completed, the forms will be given to care provider facility staff for data entry into ORR's electronic data repository known as `The UAC Portal'. Entered data will be used to record and monitor health conditions/illnesses including infectious diseases, document preventative services, develop care plans, ensure serious illnesses/conditions receive appropriate post-release follow-up care, and to track interventions taken to prevent the spread of infectious diseases.

Respondents: Office of Refugee Resettlement Grantee staff.

Annual Burden Estimates

Estimated Respondent Burden for Responding:

Instrument | Number of respondents | Number of responses per respondent | Average burden hours per response | Total burden hours
Medical Complaint Form | 120 | 836 | .13 | 13,042
Contact Investigation Form: Non-TB Illness | 120 | 4 | .08 | 38
Contact Investigation Form: Active/Suspect TB | 120 | 2 | .08 | 19

Estimated Total Annual Burden Hours: 13,099.

Estimated Respondent Burden for Recordkeeping:

Instrument | Number of respondents | Number of responses per respondent | Average burden hours per response | Total burden hours
Medical Complaint Form | 120 | 836 | 0.08 | 8,026
Contact Investigation Form: Non-TB Illness | 120 | 4 | 0.08 | 38
Contact Investigation Form: Active/Suspect TB | 120 | 2 | 0.08 | 19

Estimated Total Annual Burden: 8,083.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-01390 Filed 1-25-18; 8:45 am]

BILLING CODE 4184-01-P